DEPARTMENT OF STATE

[Public Notice 5231]

Bureau of Educational and Cultural Affairs (ECA) Request for Grant Proposals: Summer Language Institute for American Youth

Announcement Type: New Grant.

Funding Opportunity Number: ECA/PE/C/PY-06-16.

Catalog of Federal Domestic Assistance Number: 00.000.

Key Dates:

Application Deadline: January 18, 2006.

Executive Summary: The Youth Programs Division, Office of Citizen Exchanges of the Bureau of Educational and Cultural Affairs, announces an open competition for projects to provide Arabic or Chinese language instruction overseas for American high school students in Summer 2006. Public and private non-profit organizations meeting the provisions described in Internal Revenue Code section 26 U.S.C. 501(c)(3) may submit proposals to implement six-to eight-week summer institutes in an Arabic-speaking country and/or a Chinese-speaking country (hereafter referred to as China and understood to include mainland China and Taiwan as training sites) for U.S. students aged 15 to 18 to have both formal and informal Arabic or Chinese language instruction through a comprehensive exchange experience. ECA plans to award one or two grants for either an Arabic Institute or a Chinese Institute, or both. Applicants may apply to implement institutes in one or both languages.

I. Funding Opportunity Description

Authority

Overall grant making authority for this program is contained in the Mutual Educational and Cultural Exchange Act of 1961, Public Law 87-256, as amended, also known as the Fulbright-Hays Act. The purpose of the Act is “to enable the Government of the United States to increase mutual understanding between the people of the United States and the people of other countries * * *; to strengthen the ties that unite us with other nations by demonstrating the educational and cultural interests, developments, and achievements of the people of the United States and other nations * * * and thus to assist in the development of friendly, sympathetic and peaceful relations between the United States and the other countries of the world.” The funding authority for the program above is provided through legislation.

Purpose

The Bureau of Educational and Cultural Affairs (ECA) is supporting the participation of youth in intensive, substantive educational experiences that will promote language learning as well as engage the successor generation in a dialogue for greater understanding.

Promoting the study of critical languages among American youth is a vital element of America's security in the post-9/11 world, as well as promoting mutual understanding and respect between the people of the United States and the citizens of strategically important countries around the world.

The goals of the Summer Language Institute for American Youth are:

• To improve the ability of Americans to engage with the people of Arabic or Chinese-speaking countries through the shared language of the partner country;

• To develop a cadre of Americans with advanced linguistic skills and cultural understanding who are able to advance the international dialogue, promote the security of the United States, and compete effectively in the global economy;

• To provide a tangible incentive for the learning and use of foreign languages.

In order to achieve these goals, the Bureau is offering the opportunity for American secondary school students to gain basic to intermediate skills in the Arabic language or the Chinese language. ECA plans to award one or two grants for either an Arabic Institute or a Chinese Institute, or both. Applicants may apply to implement institutes in one or both languages. The Bureau reserves the right to reduce, revise, or increase proposal budgets in accordance with the needs of the program and the availability of funds.

The Summer Language Institutes for American Youth are to be conducted in an Arabic-speaking country (Egypt or Jordan) or in China. Through these institutes, a total of 30 to 40 high school students from the United States will spend six to eight weeks on a program abroad in the summer of 2006. The Arabic Institute and the Chinese Institute will provide not only intensive language instruction in a classroom setting but will also provide language-learning opportunities through immersion in the cultural, social, educational, and home life of the partner country. The exchange program will enhance the participants' knowledge of the host country's history, culture, and political system.

Indicators of a successful program

• Pre- and post-institute language testing of participants will demonstrate a substantive increase in language skills.

• Participants will demonstrate—for example, through surveys, essays, focus groups, or presentations—a deeper understanding of the host country's culture, including its customs, beliefs, and practices.

• Alumni will continue their foreign language study and/or participate in other exchanges to Arabic-speaking countries or to China.

• Students and families from the host country who engage with the U.S. participants demonstrate an interest in learning more about the United States.

Capacity of administering organization: U.S. applicant organizations must have the necessary capacity in the partner country to implement the program through either its own offices or a partner institution. Organizations applying for this grant must demonstrate their (or their partners') capacity for conducting projects of this nature, focusing on three areas of competency: (1) Provision of foreign language instruction programs and provision of educational and cultural exchange activities as outlined in this document; (2) age-appropriate programming for the target audience; and (3) experience in working with the proposed partner country or countries.

Country Selection

For the Arabic Institute: Applicant organizations should plan to send students to Egypt or Jordan, in consideration of both linguistic and safety issues.

For the Chinese Institute: Applicant organizations should plan to send students to Mandarin-speaking regions of mainland China or Taiwan.

Participant Selection: The grant recipient will recruit, screen, and select a group of students, aged 15 to 18, representing the ethnic, racial, socio-economic, and religious diversity of the United States. Participants may be beginning Arabic/Chinese speakers who have had little or no instruction in the language or they may be students with basic language skills who are ready for intermediate instruction. The delegation may be a mix of both groups, as long as the proposed institute makes explicit accommodation for learners of varying skill levels. Selected students will also demonstrate suitability for an intensive exchange experience.

Institute Summary: This six to eight-week summer institute overseas for high school students will focus on language study and cultural immersion and will include four to six hours per day of formal language training, plus excursions, briefings and discussions on key issues.

The grant recipient will provide instruction in the Arabic or Chinese language for a delegation of teenagers who may be beginning and/or intermediate students of the language. While teaching conversational Arabic or Chinese will be necessary to help students cope with their immersion setting, classes should also provide formal instruction in grammar, vocabulary, and pronunciation, and will cover reading, speaking, listening, and writing.

Arabic: The institute should emphasize the acquisition of colloquial Arabic, though it is useful for students to learn Modern Standard Arabic and its study may also be woven into the program.

Chinese: Students must learn Mandarin. Teaching materials used in the program should be available in both simplified and traditional character versions. The Hanyu pinyin romanization system should be used.

During the exchange, the students will also have the opportunity to participate in activities designed to teach them about community life, citizen participation, and the culture and history of the host country. Activities should engage host country teenagers as much as possible. The program activities will introduce the students to the community—its leaders and institutions, the ways citizens participate in local government, and the resolution of societal problems—and will include educational excursions that serve to enhance the visitors' understanding of the history, culture, media, political institutions, ethnic diversity, and environment of the region. ECA requires participation in a community service project that also involves youth of a similar age from the host country. Participants should also have opportunities to give presentations on their lives in the United States in community forums.

Since the purpose of the institute is to provide an immersion program for the language learners and increase their language skills, ECA strongly urges organizations to arrange homestays with local families for as much of the duration of the institute as possible, balancing this with time spent in a hotel or dormitory setting where the participants may be more inclined to speak English.

The delegation should have an adult accompany them on the international flight, and adult staff should be available to support the participants during the course of the institute.

Applicants must provide a plan of follow-up with alumni by e-mail, through a Web site or Web log, and/or in person, and should assist alumni in maintaining connections with organizations and individuals in the host country. The grant recipient will be expected to work in coordination with ECA to track the activities of alumni and their continued interest in studying the language.

Grant funding includes recruitment and selection of participants, orientation, travel, tuition and maintenance costs, educational enhancements, cultural and social activities, alumni activities, and administrative costs.

Note: All printed materials and formal oral communications should acknowledge the role of the U.S. Department of State's Bureau of Educational and Cultural Affairs. Drafts of printed materials developed for this program should be submitted to ECA for review and distribution as it sees fit. Copies of materials given to and prepared by the students should be provided to the ECA program office in a timely fashion.

Proposal Contents

In a maximum 20-page, one-sided, double-spaced narrative, please describe the proposed project in detail. Clearly outline whether you are applying to implement an Arabic Institute, a Chinese Institute, or both. We recommend using the following outline to organize your narrative. Refer to the proposal review criteria in this document for further guidance.

(1) Vision—Statement of the applicant's objectives as they relate to the Department's goals.

(2) Preparation—Describe the program planning and the recruitment, selection, orientation of participants.

(3) Institute Activities—Outline with detail the exchange activity (language instruction, educational excursions, cultural activities, community service, participant monitoring, logistics). Include a sample itinerary under Tab E.

(4) Follow-on Activities—Describe programming and support provided for exchange alumni.

(5) Diversity—Describe how various aspects of the program will promote an understanding of geographic, ethnic, and socioeconomic diversity in the U.S. and the partner country or countries.

(6) Program Evaluation Plan—Describe the design and methodology.

(7) Organization Capacity and Program Management—Describe the organization and program staffing (identify individuals and their responsibilities, both in the U.S. and overseas), structure, and resources. Indicate plan for working with ECA and PAS.

(8) Work Plan/Time Frame.

Please include any attachments in Tab E of your proposal. Limit the attachments to those essential for completing an understanding of the proposal.

Programs must comply with J-1 visa regulations. Please refer to the Proposal Submission Instructions for further information.

II. Award Information

Type of Award: Grant.

Fiscal Year Funds: 2006.

Approximate Total Funding: $300,000.

Approximate Number of Awards: One or two.

Approximate Average Award: Two awards at approximately $150,000 or one award at $300,000.

Anticipated Award Date: Pending availability of funds, the proposed start date is April 15, 2006.

Anticipated Project Completion Date: February 28, 2007.

III. Eligibility Information

III.1. Eligible applicants: Applications may be submitted by public and private non-profit organizations meeting the provisions described in Internal Revenue Code section 26 U.S.C. 501(c)(3).

III.2. Cost Sharing or Matching Funds: There is no minimum or maximum percentage required for this competition. However, the Bureau encourages applicants to provide maximum levels of cost sharing and funding in support of its programs.

When cost sharing is offered, it is understood and agreed that the applicant must provide the amount of cost sharing as stipulated in its proposal and later included in an approved grant agreement. Cost sharing may be in the form of allowable direct or indirect costs. For accountability, you must maintain written records to support all costs which are claimed as your contribution, as well as costs to be paid by the Federal government. Such records are subject to audit. The basis for determining the value of cash and in-kind contributions must be in accordance with OMB Circular A-110, (Revised), Subpart C.23—Cost Sharing and Matching. In the event you do not provide the minimum amount of cost sharing as stipulated in the approved budget, ECA's contribution will be reduced in like proportion.

III.3. Other Eligibility Requirements: Bureau grant guidelines require that organizations with less than four years experience in conducting international exchanges be limited to $60,000 in Bureau funding. ECA anticipates awarding a grant (or grants) in an amount over $60,000 to support program and administrative costs required to implement this exchange program. Therefore, organizations with less than four years experience in conducting international exchanges are ineligible to apply under this competition. The Bureau encourages applicants to provide maximum levels of cost sharing and funding in support of its programs.

IV. Application and Submission Information

Note: Please read the complete Federal Register announcement before sending inquiries or submitting proposals. Once the RFGP deadline has passed, Bureau staff may not discuss this competition with applicants until the proposal review process has been completed.

IV.1 Contact Information to Request an Application Package: Please contact the Youth Programs Division, Office of Citizen Exchanges (ECA/PE/C/PY), room 568, U.S. Department of State, SA-44, 301 4th Street, SW., Washington, DC 20547, Telephone (202) 203-7502, Fax (202) 203-7529, or E-mail NowlinJR@state.gov to request a Solicitation Package. Please refer to the Funding Opportunity Number (ECA/PE/C/PY-06-16) when making your request.

The Solicitation Package contains the Proposal Submission Instruction (PSI) document which consists of required application forms, and standard guidelines for proposal preparation.

Please specify Bureau Program Officer Carolyn Lantz and refer to the Funding Opportunity Number (ECA/PE/C/PY-06-16) located at the top of this announcement on all other inquiries and correspondence.

IV.2. To Download a Solicitation Package Via Internet: The entire Solicitation Package may be downloaded from the Bureau's Web site at http://exchanges.state.gov/education/rfgps/menu.htm. Please read all information before downloading.

IV.3. Content and Form of Submission: Applicants must follow all instructions in the Solicitation Package. The original and eight copies of the application should be sent per the instructions under IV.3f. “Submission Dates and Times section” below.

IV.3a. You are required to have a Dun and Bradstreet Data Universal Numbering System (DUNS) number to apply for a grant or cooperative agreement from the U.S. Government. This number is a nine-digit identification number, which uniquely identifies business entities. Obtaining a DUNS number is easy and there is no charge. To obtain a DUNS number, access http://www.dunandbradstreet.com or call 1-866-705-5711. Please ensure that your DUNS number is included in the appropriate box of the SF-424 which is part of the formal application package.

IV.3b. All proposals must contain an executive summary, proposal narrative and budget.

Please Refer to the Solicitation Package. It contains the mandatory Proposal Submission Instructions (PSI) document for additional formatting and technical requirements.

IV.3c. You must have nonprofit status with the IRS at the time of application. If your organization is a private nonprofit which has not received a grant or cooperative agreement from ECA in the past three years, or if your organization received nonprofit status from the IRS within the past four years, you must submit the necessary documentation to verify nonprofit status as directed in the PSI document. Failure to do so will cause your proposal to be declared technically ineligible.

IV.3d. Please take into consideration the following information when preparing your proposal narrative:

IV.3d.1—Adherence To All Regulations Governing The J Visa. The Office of Citizen Exchanges of the Bureau of Educational and Cultural Affairs is the official program sponsor of the exchange program covered by this RFGP, and an employee of the Bureau will be the “Responsible Officer” for the program under the terms of 22 CFR part 62, which covers the administration of the Exchange Visitor Program (J visa program). Under the terms of 22 CFR part 62, organizations receiving grants under this RFGP will be third parties “cooperating with or assisting the sponsor in the conduct of the sponsor's program.” The actions of grantee program organizations shall be “imputed to the sponsor in evaluating the sponsor's compliance with” 22 CFR part 62. Therefore, the Bureau expects that any organization receiving a grant under this competition will render all assistance necessary to enable the Bureau to fully comply with 22 CFR part 62 et seq.

The Bureau of Educational and Cultural Affairs places great emphasis on the secure and proper administration of Exchange Visitor (J visa) Programs and adherence by grantee program organizations and program participants to all regulations governing the J visa program status. Therefore, proposals should explicitly state in writing that the applicant is prepared to assist the Bureau in meeting all requirements governing the administration of Exchange Visitor Programs as set forth in 22 CFR part 62. If your organization has experience as a designated Exchange Visitor Program Sponsor, the applicant should discuss their record of compliance with 22 CFR part 62 et. seq., including the oversight of their Responsible Officers and Alternate Responsible Officers, screening and selection of program participants, provision of pre-arrival information and orientation to participants, monitoring of participants, proper maintenance and security of forms, record-keeping, reporting and other requirements.

The Office of Citizen Exchanges of ECA will be responsible for issuing any DS-2019 forms to foreign participants.

A copy of the complete regulations governing the administration of Exchange Visitor (J) programs is available at http://exchanges.state.gov or from: United States Department of State, Office of Exchange Coordination and Designation, ECA/EC/ECD—SA-44, Room 734, 301 4th Street, SW., Washington, DC 20547. Telephone: (202) 203-5029. FAX: (202) 453-8640.

IV.3d.2 Diversity, Freedom and Democracy Guidelines. Pursuant to the Bureau's authorizing legislation, programs must maintain a non-political character and should be balanced and representative of the diversity of American political, social, and cultural life. “Diversity” should be interpreted in the broadest sense and encompass differences including, but not limited to ethnicity, race, gender, religion, geographic location, socio-economic status, and physical challenges. Applicants are strongly encouraged to adhere to the advancement of this principle both in program administration and in program content. Please refer to the review criteria under the ‘Support for Diversity’ section for specific suggestions on incorporating diversity into your proposal. Public Law 104-319 provides that “in carrying out programs of educational and cultural exchange in countries whose people do not fully enjoy freedom and democracy,” the Bureau “shall take appropriate steps to provide opportunities for participation in such programs to human rights and democracy leaders of such countries.” Public Law 106-113 requires that the governments of the countries described above do not have inappropriate influence in the selection process. Proposals should reflect advancement of these goals in their program contents, to the full extent deemed feasible.

IV.3d.3. Program Monitoring and Evaluation. Proposals must include a plan to monitor and evaluate the project's success, both as the activities unfold and at the end of the program. The Bureau recommends that your proposal include a draft survey questionnaire or other technique plus a description of a methodology to use to link outcomes to original project objectives. The Bureau expects that the grantee will track participants or partners and be able to respond to key evaluation questions, including satisfaction with the program, learning as a result of the program, changes in behavior as a result of the program, and effects of the program on institutions (institutions in which participants work or partner institutions). The evaluation plan should include indicators that measure gains in mutual understanding as well as substantive knowledge.

Successful monitoring and evaluation depend heavily on setting clear goals and outcomes at the outset of a program. Your evaluation plan should include a description of your project's objectives, your anticipated project outcomes, and how and when you intend to measure these outcomes (performance indicators). The more that outcomes are “smart” (specific, measurable, attainable, results-oriented, and placed in a reasonable time frame), the easier it will be to conduct the evaluation. You should also show how your project objectives link to the goals of the program described in this RFGP.

Your monitoring and evaluation plan should clearly distinguish between program outputs and outcomes. Outputs are products and services delivered, often stated as an amount. Output information is important to show the scope or size of project activities, but it cannot substitute for information about progress towards outcomes or the results achieved. Examples of outputs include the number of people trained or the number of seminars conducted. Outcomes, in contrast, represent specific results a project is intended to achieve and is usually measured as an extent of change. Findings on outputs and outcomes should both be reported, but the focus should be on outcomes.

We encourage you to assess the following four levels of outcomes, as they relate to the program goals set out in the RFGP (listed here in increasing order of importance):

1. Participant satisfaction with the program and exchange experience.

2. Participant learning, such as increased knowledge, aptitude, skills, and changed understanding and attitude. Learning includes both substantive (subject-specific) learning and mutual understanding.

3. Participant behavior, concrete actions to apply knowledge in work or community; greater participation and responsibility in civic organizations; interpretation and explanation of experiences and new knowledge gained; continued contacts between participants, community members, and others.

4. Institutional changes, such as increased collaboration and partnerships, policy reforms, new programming, and organizational improvements.

Please note: Consideration should be given to the appropriate timing of data collection for each level of outcome. For example, satisfaction is usually captured as a short-term outcome, whereas behavior and institutional changes are normally considered longer-term outcomes.

Overall, the quality of your monitoring and evaluation plan will be judged on how well it (1) specifies intended outcomes; (2) gives clear descriptions of how each outcome will be measured; (3) identifies when particular outcomes will be measured; and (4) provides a clear description of the data collection strategies for each outcome (i.e., surveys, interviews, or focus groups). (Please note that evaluation plans that deal only with the first level of outcomes [satisfaction] will be deemed less competitive under the present evaluation criteria.)

Grantees will be required to provide reports analyzing their evaluation findings to the Bureau in their regular program reports. All data collected, including survey responses and contact information, must be maintained for a minimum of three years and provided to the Bureau upon request.

IV.3e. Please take the following information into consideration when preparing your budget:

IV.3e.1. Applicants must submit a comprehensive budget for the entire program. Grant requests may not exceed $300,000. The anticipated unit cost for a six-to-eight-week program is $8,000 to $10,000. There must be a summary budget as well as breakdowns reflecting both administrative and program budgets. Applicants may provide separate sub-budgets for each program component, phase, location, or activity to provide clarification.

IV.3e.2. Allowable costs for the program include the following:

(1) Recruitment/selection.

(2) Preparation/orientation.

(3) Visas and associated costs.

(4) Travel.

(5) Institute costs, including language instruction, program activities, and monitoring.

(6) Room and board, as necessary.

(7) Follow-on activities.

(8) Evaluation.

(9) Administration.

Maximum limits on grant funding are as follows: Books and educational materials allowance—$100 per participant; Conference room rental costs—$250 per day per room; Consultant fees and honoraria—$250/day; Cultural allowance—$150 per participant; Per diem—standard government rates; Working meals—one per project; Evaluation costs—2% to 5% of the grant.

Please refer to the Solicitation Package for complete budget guidelines and formatting instructions.

IV.3f. Submission Dates and Times:

Application Deadline Date: Wednesday, January 18, 2006.

Explanation of Deadlines

Due to heightened security measures, proposal submissions must be sent via a nationally recognized overnight delivery service (i.e., DHL, Federal Express, UPS, Airborne Express, or U.S. Postal Service Express Overnight Mail, etc.) and be shipped no later than the above deadline. The delivery services used by applicants must have in-place, centralized shipping identification and tracking systems that may be accessed via the Internet and delivery people who are identifiable by commonly recognized uniforms and delivery vehicles. Proposals shipped on or before the above deadline but received at ECA more than seven days after the deadline will be ineligible for further consideration under this competition. Proposals shipped after the established deadlines are ineligible for consideration under this competition. It is each applicant's responsibility to ensure that each package is marked with a legible tracking number and to monitor/confirm delivery to ECA via the Internet. ECA will not notify you upon receipt of application. Delivery of proposal packages may not be made via local courier service or in person for this competition. Faxed documents will not be accepted at any time. Only proposals submitted as stated above will be considered. Applications may not be submitted electronically at this time.

Applicants must follow all instructions in the Solicitation Package.

Important note: When preparing your submission please make sure to include one extra copy of the completed SF-424 form and place it in an envelope addressed to “ECA/EX/PM”.

The original, one fully-tabbed copy, and seven copies of the application with Tabs A-E (for a total of 9 copies) should be sent to: U.S. Department of State, SA-44, Bureau of Educational and Cultural Affairs, Ref.: ECA/PE/C/PY-06-16, Program Management, ECA/EX/PM, Room 534, 301 4th Street, SW., Washington, DC 20547.

Along with the Project Title, all applicants must enter the above Reference Number in Box 11 on the SF-424 contained in the mandatory Proposal Submission Instructions (PSI) of the solicitation document.

IV.3g. Intergovernmental Review of Applications: Executive Order 12372 does not apply to this program.

IV.3h. With the submission of the proposal package, please also submit the Executive Summary, Proposal Narrative, and Budget sections of the proposal as e-mail attachments in Microsoft Word and/or Excel to the program officer at LantzCS@state.gov. The Bureau will provide these files electronically to the Public Affairs Sections at the relevant U.S. embassies for their review.

V. Application Review Information

V.1. Review Process

The Bureau will review all proposals for technical eligibility. Proposals will be deemed ineligible if they do not fully adhere to the guidelines stated herein and in the Solicitation Package. All eligible proposals will be reviewed by the program office, as well as the Public Diplomacy section overseas, where appropriate. Eligible proposals will be subject to compliance with Federal and Bureau regulations and guidelines and forwarded to Bureau grant panels for advisory review. Proposals may also be reviewed by the Office of the Legal Adviser or by other Department elements. Final funding decisions are at the discretion of the Department of State's Assistant Secretary for Educational and Cultural Affairs. Final technical authority for assistance awards (grants) resides with the Bureau's Grants Officer.

Review Criteria

Technically eligible applications will be competitively reviewed according to the criteria stated below. These criteria are not rank ordered and all carry equal weight in the proposal evaluation:

1. Quality of the program idea: Proposals should exhibit originality, substance, precision, and relevance to the Bureau's mission. Proposals should display an understanding of the goals of the program. Proposals will demonstrate a commitment to excellence and creativity in the implementation and management of the program.

2. Program planning and ability to meet program objectives: Objectives should be reasonable, feasible, flexible, and respond to the priorities outlined in this announcement. Proposals should clearly demonstrate how the institution will meet the program's objectives and plan. A detailed agenda and relevant work plan will demonstrate substantive undertakings and logistical capacity. The agenda and plan should adhere to the program overview and guidelines described above and will show the timetable by which major tasks will be completed. The substance of the instruction and the exchange activities should be described in detail and included as an attachment. The responsibilities of partner organizations will be clearly delineated.

3. Follow-on/Alumni Activities: Proposals should provide a strategy for maximizing the opportunities for alumni to further their study of the language and culture of the host country, presenting plans that are within the context of the grant (with Bureau support) and after its completion (without the Bureau's financial support).

4. Support of Diversity: Proposals should demonstrate substantive support of the Bureau's policy on diversity. Achievable and relevant features should be cited in both program administration (selection of participants, program venue, and program evaluation) and program content (orientation and wrap-up sessions, program meetings, resource materials, and follow-up activities).

5. Project Evaluation: Proposals should include a plan and methodology to evaluate the project's successes and challenges, both as the activities unfold and at the end of the program. The evaluation plan should show a clear link between program objectives and expected outcomes, and should include a description of performance indicators and measurement tools. Applicants should provide draft questionnaires or other techniques for use in surveying participants to facilitate the demonstration of results. Applicants will indicate their willingness to submit periodic progress reports in accordance with the program office's expectations.

6. Institutional Capacity: Applicants should demonstrate knowledge of each country's educational environment and the capacity for hosting this language institute. Proposals should include detailed information about the applicant's capacity in the United States and about in-country support for the program, including descriptions of experienced personnel who will implement it. Institutional resources should be adequate and appropriate to achieve the project's goals. Proposals should demonstrate an institutional record of successful exchange programs, including responsible fiscal management and full compliance with all reporting requirements for past Bureau grants as determined by Bureau Grants Staff. The Bureau will consider the past performance of prior recipients and the demonstrated potential of new applicants.

7. Cost-effectiveness/Cost sharing: The overhead and administrative components of the proposal, including salaries and honoraria, should be kept as low as possible. While lower “per participant” figures will be favorably viewed, the Bureau expects all figures to be realistic. All other items must be necessary and appropriate. Proposals should maximize cost sharing through other private sector support as well as institutional direct funding contributions.

VI. Award Administration Information

VI.1a. Award Notices: Final awards cannot be made until funds have been appropriated by Congress, allocated and committed through internal Bureau procedures. Successful applicants will receive an Assistance Award Document (AAD) from the Bureau's Grants Office. The AAD and the original grant proposal with subsequent modifications (if applicable) shall be the only binding authorizing document between the recipient and the U.S. Government. The AAD will be signed by an authorized Grants Officer, and mailed to the recipient's responsible officer identified in the application. Unsuccessful applicants will receive notification of the results of the application review from the ECA program office coordinating this competition.

VI.2 Administrative and National Policy Requirements: Terms and Conditions for the Administration of ECA agreements include the following:

Office of Management and Budget Circular A-122, “Cost Principles for Nonprofit Organizations.”

Office of Management and Budget Circular A-21, “Cost Principles for Educational Institutions.”

OMB Circular A-87, “Cost Principles for State, Local and Indian Governments”.

OMB Circular No. A-110 (Revised), Uniform Administrative Requirements for Grants and Agreements with Institutions of Higher Education, Hospitals, and other Nonprofit Organizations.

OMB Circular No. A-102, Uniform Administrative Requirements for Grants-in-Aid to State and Local Governments.

OMB Circular No. A-133, Audits of States, Local Government, and Non-profit Organizations.

Please reference the following Web sites for additional information:

http://www.whitehouse.gov/omb/grants.

http://exchanges.state.gov/education/grantsdiv/terms.htm#articleI.

VI.3. Reporting Requirements: You must provide ECA with a hard copy original plus two copies of the following reports:

(1) A final program and financial report no more than 90 days after the expiration of the award;

(2) Quarterly program and financial reports that include information on the progress made on the program plan and program results to date.

Grantees will be required to provide reports analyzing their evaluation findings to the Bureau in their regular program reports. (Please refer to IV. Application and Submission Instructions (IV.3.d.3) above for Program Monitoring and Evaluation information.

All data collected, including survey responses and contact information, must be maintained for a minimum of three years and provided to the Bureau upon request.

All reports must be sent to the ECA Grants Officer and ECA Program Officer listed in the final assistance award document.

VI.4. Program Data Requirements: Organizations awarded grants will be required to maintain specific data on program participants and activities in an electronically accessible database format that can be shared with the Bureau as required. As a minimum, the data must include the following:

(1) Name, address, contact information and biographic sketch of all persons who travel internationally on funds provided by the grant or who benefit from the grant funding but do not travel.

(2) Itineraries of international and domestic travel, providing dates of travel and cities in which any exchange experiences take place. Final schedules for in-country and U.S. activities must be received by the ECA Program Officer at least three work days prior to the official opening of the activity.

VII. Agency Contacts

For questions about this announcement, contact: Carolyn Lantz, Youth Programs Division, Office of Citizen Exchanges, Bureau of Educational and Cultural Affairs, ECA/PE/C/PY-06-16, U.S. Department of State, SA-44, 301 4th Street, SW., Room 568, Washington, DC 20547, Telephone (202) 203-7505, Fax (202) 203-7529, E-mail LantzCS@state.gov.

All correspondence with the Bureau concerning this RFGP should reference the above title and number ECA/PE/C/PY-06-16.

Please read the complete Federal Register announcement before sending inquiries or submitting proposals. Once the RFGP deadline has passed, Bureau staff may not discuss this competition with applicants until the proposal review process has been completed.

VIII. Other Information

Notice: The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements per section VI.3 above.

Issuance of the RFGP does not constitute an award commitment on the part of the Government. The Bureau reserves the right to reduce, revise, or increase proposal budgets in accordance with the needs of the program and the availability of funds. Awards made will be subject to periodic reporting and evaluation requirements per section VI.3 above.

Dated: November 14, 2005.
C. Miller Crouch,
Principal Deputy Assistant Secretary, Bureau of Educational and Cultural Affairs, Department of State.

[FR Doc. 05-22921 Filed 11-17-05; 8:45 am]

BILLING CODE 4710-05-P